OFFICE OF PERSONNEL MANAGEMENT

Excepted Service

AGENCY: Office of Personnel Management (OPM).

ACTION: Notice.

SUMMARY: This notice identifies Schedule A, B, and C appointing authorities applicable to a single agency that were established or revoked from August 1, 2021 to August 31, 2021.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during August 2021.

Schedule B

No Schedule B Authorities to report during August 2021.

Schedule C

The following Schedule C appointing authorities were approved during August 2021.

Agency name | Organization name | Position title | Authorization No. | Effective date
DEPARTMENT OF AGRICULTURE | Office of Communications | Press Assistant | DA210133 | 08/26/2021
| Office of the Assistant Secretary for Congressional Relations | Legislative Advisor | DA210134 | 08/26/2021
| Office of the Secretary | Senior Advisor for Climate Confidential Assistant | DA210135 DA210137 | 08/26/2021 08/26/2021
| Rural Business Service | Confidential Assistant | DA210136 | 08/26/2021
DEPARTMENT OF COMMERCE | Office of the Assistant Secretary for Industry and Analysis | Director, Office of Industry Engagement | DC210176 | 08/16/2021
| Director General of the United States and Foreign Commercial Service and Assistant Secretary for Global Markets | Senior Advisor | DC210173 | 08/16/2021
| Office of Advance, Scheduling and Protocol | Special Assistant Chief Protocol Officer and Senior Advisor | DC210168 DC210181 | 08/06/2021 08/26/2021
| Office of Executive Secretariat | Special Assistant | DC210167 | 08/05/2021
| Office of Public Affairs | Deputy Press Secretary | DC210164 | 08/05/2021
DEPARTMENT OF DEFENSE | Office of the Assistant Secretary of Defense (Legislative Affairs) | Special Assistant | DD210261 | 08/19/2021
| Office of the Secretary of Defense | Advance Officer | DD210258 | 08/05/2021
| Office of the Under Secretary of Defense (Policy) | Director, Homeland Defense and Security | DD210259 | 08/06/2021
| Office of the Under Secretary of Defense (Research And Engineering) | Special Assistant | DD210253 | 08/04/2021
DEPARTMENT OF THE ARMY | Office of the Secretary | Confidential Assistant | DW210029 | 08/12/2021
DEPARTMENT OF EDUCATION | Office of Career Technical and Adult Education | Confidential Assistant | DB210120 | 08/04/2021
| Office of Legislation and Congressional Affairs | Special Assistant | DB210133 | 08/27/2021
| Office of Postsecondary Education | Confidential Assistant | DB210122 | 08/04/2021
|  | Special Assistant | DB210127 | 08/18/2021
| Office of the Secretary | Confidential Assistant | DB210121 | 08/04/2021
|  | Director of Advance | DB210129 | 08/18/2021
|  | Deputy Director of Advance | DB210131 | 08/19/2021
| Office of the Under Secretary | Advisor for Data Security (2) | DB210130 | 08/16/2021
|  |  | DB210135 | 08/27/2021
DEPARTMENT OF ENERGY | Office of the Assistant Secretary for Energy Efficiency and Renewable Energy | Director of External Affairs | DE210169 | 08/02/2021
| Office of the Chief Financial Officer | Special Advisor | DE210173 | 08/04/2021
| National Nuclear Security Administration | Director of Public Affairs | DE210175 | 08/11/2021
| Office of the Secretary | Special Assistant to the Deputy Chiefs of Staff | DE210155 | 08/16/2021
| Office of Public Affairs | Deputy Press Secretary | DE210157 | 08/16/2021
ENVIRONMENTAL PROTECTION AGENCY | Office of the Associate Administrator for Congressional and Intergovernmental Relations | Special Assistant Deputy Associate Administrator for Congressional Affairs (House Relations) | EP210097 EP210099 | 08/02/2021 08/02/2021
| Office of the Administrator | Deputy White House Liaison | EP210100 | 08/17/2021
| Office of Public Affairs | Deputy Associate Administrator for Public Affairs | EP210103 | 08/18/2021
FEDERAL HOUSING FINANCE AGENCY | Office of the Director | Director, Office of Congressional Affairs and Communication | HA210004 | 08/19/2021
GENERAL SERVICES ADMINISTRATION | Office of the Administrator | Senior Advisor to the Administrator (State, Local, Tribal and Territorial) | GS210041 | 08/12/2021
| Office of Congressional and Intergovernmental Affairs | Deputy Associate Administrator for Policy | GS210044 | 08/30/2021
DEPARTMENT OF HEALTH AND HUMAN SERVICES | Center for Medicaid and Chip Services | Policy Advisor | DH210228 | 08/11/2021
DEPARTMENT OF HOMELAND SECURITY | United State Immigration and Customs Enforcement | Legislative Correspondent | DM210409 | 08/17/2021
| Office for Civil Rights and Civil Liberties | Special Assistant | DM210422 | 08/17/2021
| Office of Partnership and Engagement | Intergovernmental Affairs Coordinator | DM210435 | 08/24/2021
DEPARTMENT OF HOUSING AND URBAN DEVELOPMENT | Office of Public Affairs Office of the Secretary | Assistant Press Secretary Senior Advisor | DU210095 DU210097 | 08/16/2021 08/16/2021
| Office of the Administration | Advance Coordinator (2) | DU210094 | 08/18/2021
|  |  | DU210096 | 08/18/2021
| Office of Policy Development and Research | Special Policy Advisor | DU210099 | 08/26/2021
DEPARTMENT OF THE INTERIOR | Secretary's Immediate Office | Advisor to the Director of Intergovernmental and External Affairs | DI210131 | 08/06/2021
|  | Advisor | DI210137 | 08/18/2021
|  | Senior Advance Representative | DI210136 | 08/19/2021
DEPARTMENT OF LABOR | Mine Safety and Health Administration | Senior Advisor | DL210112 | 08/12/2021
| Occupational Safety and Health Administration | Senior Policy Advisor | DL210108 | 08/20/2021
| Office of Public Affairs | Special Assistant | DL210111 | 08/23/2021
| Office of the Secretary | Advance Associate (2) | DL210113 DL210115 | 08/12/2021 08/27/2021
NATIONAL AERONAUTICS AND SPACE ADMINISTRATION | Office of the Administrator | Special Assistant for Engagement Special Assistant for Operations | NN210059 NN210060 | 08/02/2021 08/11/2021
| Office of Communications | Special Assistant | NN210066 | 08/30/2021
SECURITIES AND EXCHANGE COMMISSION | Office of Commissioner Crenshaw | Confidential Assistant | SE210029 | 08/26/2021
SMALL BUSINESS ADMINISTRATION | Office of Capital Access | Special Advisor | SB210052 | 08/04/2021
DEPARTMENT OF STATE | Bureau of Economic and Business Affairs | Senior Advisor | DS210269 | 08/19/2021
| Bureau of Educational and Cultural Affairs | Deputy Assistant Secretary | DS210250 | 08/04/2021
| Bureau of Global Public Affairs | Deputy Assistant Secretary | DS210274 | 08/26/2021
| Office of the Chief of Protocol | Assistant Chief of Protocol (Visits) | DS210263 | 08/11/2021
| Office of the Under Secretary for Civilian Security, Democracy, and Human Rights | Senior Advisor | DS210270 | 08/20/2021
| Office of the Under Secretary for Economic Growth, Energy, and the Environment | Senior Advisor | DS210262 | 08/06/2021
| Office of the Under Secretary for Public Diplomacy and Public Affairs | Senior Advisor | DS210265 | 08/11/2021
DEPARTMENT OF TRANSPORTATION | Federal Transit Administration | Senior Advisor | DT210101 | 08/19/2021

The following Schedule C appointing authorities were revoked during August 2021.

Agency name | Organization name | Position title | Request No. | Vacate date
DEPARTMENT OF HEALTH AND HUMAN SERVICES | Office of the Assistant Secretary for Public Affairs | Press Secretary | DH210115 | 08/20/2021
DEPARTMENT OF JUSTICE | Office of Civil Rights Division | Senior Counsel | DJ210070 | 08/31/2021
| Office of Legislative Affairs | Attorney Advisor | DJ210037 | 08/20/2021
DEPARTMENT OF THE TREASURY | Office of the Assistant Secretary (Public Affairs) | Press Assistant | DY210089 | 08/17/2021
ENVIRONMENTAL PROTECTION AGENCY | Office of the Associate Administrator for Congressional and Intergovernmental Relations | Deputy Associate Administrator for Congressional Affairs | EP210016 | 08/14/2021
SMALL BUSINESS ADMINISTRATION | Office of Capital Access Office of the Administrator | Special Assistant Confidential Assistant | SB210008 SB210040 | 08/14/2021 08/28/2021
SOCIAL SECURITY ADMINISTRATION | Office of the Commissioner | Special Assistant | SZ200013 | 08/06/2021

Authority: 5 U.S.C. 3301 and 3302; E.O. 10577, 3 CFR, 1954-1958 Comp., p. 218.

Office of Personnel Management.
Alexys Stanley,
Regulatory Affairs Analyst.

[FR Doc. 2022-02644 Filed 2-8-22; 8:45 am]

BILLING CODE 6325-39-P